OFFICE OF PERSONNEL MANAGEMENT

Proposed Collection; Comment Request for Review of an Expiring Information Collection: OPM-1386B

AGENCY: Office of Personnel Management.

ACTION: Notice.

SUMMARY: In accordance with the Paperwork Reduction Act of 1995 (Public Law 104-13, May 22, 1995), this notice announces that the Office of Personnel Management (OPM) intends to submit to the Office of Management and Budget (OMB) a request for review of an expiring information collection. OPM-1386B, Applicant Race and National Origin Questionnaire, is used to gather information concerning the race and national origin of applicants for employment under the Outstanding Scholar provision of the Luevano Consent Decree, 93 F.R.D. 68 (1981).

Approximately 100,000 OPM-1386B forms are completed annually. Each form takes approximately 8 minutes to complete. The annual estimated burden is 13,333 hours.

Comments are particularly invited on: whether this collection of information is necessary for the proper performance of functions of the Office of Personnel Management and whether it will have practical utility; whether our estimate of the public burden of this collection of information is accurate and based on valid assumptions and methodology; and ways in which we can minimize the burden of the collection of information on those who are to respond, through the use of appropriate technological collection techniques or other forms of information technology.

For copies of this proposal, contact Mary Beth Smith-Toomey on (202) 606-8358, or e-mail to mbtoomey@opm.gov

DATES: Comments on this proposal should be received on or before June 25, 2001.

ADDRESSES: Send or deliver comments to—Suzy M. Barker, Director, Staffing Policy Division, Employment Service, U.S. Office of Personnel Management, 1900 E Street, NW., Room 6500, Washington, DC 20415.

U.S. Office of Personnel Management.
Steven R. Cohen,
Acting Director.

[FR Doc. 01-10114 Filed 4-24-01; 8:45 am]

BILLING CODE 6325-01-U